DEPARTMENT OF TRANSPORTATION

Federal Aviation Administration

14 CFR Part 39

[Docket No. FAA-2010-0673; Directorate Identifier 2009-NM-208-AD]

RIN 2120-AA64

Airworthiness Directives; BAE Systems (OPERATIONS) LIMITED Model BAe 146 and Avro 146-RJ Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: In June 2000, prompted by a crack found at the top of the NLG [nose landing gear] oleo, BAE Systems (Operations) Ltd issued Inspection Service Bulletin (SB) 32-158. This SB was classified mandatory by the UK [United Kingdom] Civil Aviation Authority under AD number 002-06-2000, requiring repetitive non-destructive testing (NDT) inspections for cracking on the upper end of the NLG oleo. The AD also provided an optional terminating action for the repetitive inspections, by embodiment of Messier-Dowty SB.146-32-150. As part of a recent accident investigation, the examination of a fractured NLG main fitting showed that Messier-Dowty [M-D] SB.146-32-150 had not been accomplished, although the records indicated that it had been. BAE Systems has determined that more NLG units could be similarly affected. These NLG units have been overhauled at Messier Services in Sterling, Virginia, in the United States. This condition, if not corrected, could result in NLG failure. Subsequently, investigation and analysis by M-D has identified the need for a reduction of the inspection threshold and the repetitive inspection interval for the affected NLG units and has replaced M-D SB 146-32-149 with M-D SB 146-32-174. The unsafe condition is cracking of the NLG, which could adversely affect the airplane's safe landing. The proposed AD would require actions that are intended to address the unsafe condition described in the MCAI.

DATES: We must receive comments on this proposed AD by August 23, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For BAE SYSTEMS (Operations) Limited service information identified in this proposed AD, contact BAE Systems (Operations) Ltd, Customer Information Department, Prestwick International Airport, Ayrshire, KA9 2RW, Scotland, United Kingdom; telephone +44 1292 675704; e-mail RApublications@baesystems.com; Internet http://www.baesystems.com/Businesses/RegionalAircraft/index.htm. For Messier-Dowty, contact Messier Services Americas, Customer Support Center, 45360 Severn Way, Sterling, Virginia 20166-8910; telephone 703-450-8233; fax 703-404-1621; Internet https://techpubs.services.messier-dowty.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-0673; Directorate Identifier 2009-NM-208-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On February 6, 2002, we issued AD 2002-03-10, Amendment 39-12651 (67 FR 6855, February 14, 2002). That AD required actions intended to address an unsafe condition on the products listed above.

Since we issued AD 2002-03-10, investigation and analysis by Messier-Dowty has identified the need for a reduction of the inspection threshold and the repetitive inspection interval for the affected nose landing gear (NLG) units, and has replaced Messier-Dowty Service Bulletin 146-32-149, dated April 17, 2000, with Messier-Dowty Service Bulletin 146-32-174, Revision 1, dated September 2, 2009. The European Aviation Safety Agency (EASA), which is the Technical Agent for the Member States of the European Community, has issued EASA Airworthiness Directive 2010-0001-E, dated January 4, 2010 (referred to after this as “the MCAI”), to correct an unsafe condition for the specified products. The MCAI states:

In June 2000, prompted by a crack found at the top of the NLG oleo, BAE Systems (Operations) Ltd issued Inspection Service Bulletin (SB) 32-158.

This SB was classified mandatory by the UK [United Kingdom] Civil Aviation Authority under AD number 002-06-2000, requiring repetitive non-destructive testing (NDT) inspections for cracking on the upper end of the NLG oleo. The AD also provided an optional terminating action for the repetitive inspections, by embodiment of Messier-Dowty SB.146-32-150.

As part of a recent accident investigation, the examination of a fractured NLG main fitting showed that Messier-Dowty SB.146-32-150 had not been accomplished, although the records indicated that it had been. BAE Systems has determined that more NLG units could be similarly affected. These NLG units have been overhauled at Messier Services in Sterling, Virginia, in the United States. This condition, if not corrected, could result in NLG failure.

To address this situation, EASA issued Emergency AD 2009-0043-E to require repetitive NDT inspections of each affected NLG unit and, if cracks are found, replacement with a serviceable unit, in accordance with the instructions of BAE Systems (Operations) Limited Alert Inspection Service Bulletin ISB.A32-180 and Messier-Dowty (M-D) SB 146-32-149.

Subsequently, investigation and analysis by M-D identified the need for a reduction of the inspection threshold and the repetitive inspection interval for the affected NLG units and replaced M-D SB 146-32-149 with M-D SB 146-32-174. Consequently, BAE Systems SB 32-158 was withdrawn and superseded by BAE Systems Alert ISB.A32-180 Revision 1, which was mandated by EASA Emergency AD 2009-0197-E.

As further information became available BAE Systems saw a need to clarify the compliance instructions in the ISB and have now issued Revision 2 of Alert Service Bulletin ISB.A32-180. The layout of Revision 2 is no longer compatible with the instructions in EASA Emergency AD 2009-0197-E.

For the reasons described above, this Emergency AD retains the requirements of EASA Emergency AD 2009-0197-E, which is superseded, requires repetitive NDT inspections of each affected NLG unit and, if cracks are found, replacement with a serviceable unit and reduces the threshold and interval of the repetitive NDT inspections.

The unsafe condition is cracking of the NLG, which could adversely affect the airplane's safe landing. Corrective actions include replacing the cracked NLG with a serviceable unit. You may obtain further information by examining the MCAI in the AD docket.

Relevant Service Information

Messier-Dowty has issued Service Bulletin 146-32-174, Revision 1, including Appendix A, dated September 2, 2009; and Service Bulletin 146-32-150, dated May 22, 2000. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 1 product of U.S. registry.

We estimate that it would take about 1 work-hour per product to comply with the new basic requirements of this proposed AD. The average labor rate is $85 per work-hour. Based on these figures, we estimate the cost of the proposed AD on U.S. operators to be $85.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12651 (67 FR 6855, February 14, 2002) and adding the following new AD:

BAE Systems (Operations) Limited: Docket No. FAA-2010-0673; Directorate Identifier 2009-NM-208-AD.

Comments Due Date

(a) We must receive comments by August 23, 2010.

Affected ADs

(b) The AD supersedes AD 2002-03-10, Amendment 39-12651.

Applicability

(c) This AD applies to BAE Systems (Operations) Limited Model BAe 146-100A, -200A, and -300A airplanes, and Avro 146-RJ70A, 146-RJ85A, and 146-RJ100A airplanes; certificated in any category; having a nose landing gear (NLG) having part number (P/N) 200876001, P/N 200876002, P/N 200876003, P/N 200876004, or P/N 201138002; and as specified in paragraph (c)(1) or (c)(2) of this AD; except those airplanes having NLG P/N 201138002 and serial number (S/N) M-DG-0169 or higher.

(1) Airplanes on which Messier-Dowty Service Bulletin 146-32-150, dated May 22, 2000, has not been accomplished, or

(2) Airplanes on which Messier-Dowty Service Bulletin 146-32-150, dated May 22, 2000, has been accomplished by Messier Services, Sterling, Virginia, United States of America.

Subject

(d) Air Transport Association (ATA) of America Code 32: Landing Gear.

Reason

(e) The mandatory continuing airworthiness information (MCAI) states:

In June 2000, prompted by a crack found at the top of the NLG oleo, BAE Systems (Operations) Ltd issued Inspection Service Bulletin (SB) 32-158. This SB was classified mandatory by the UK [United Kingdom] Civil Aviation Authority under AD number 002-06-2000, requiring repetitive non-destructive testing (NDT) inspections for cracking on the upper end of the NLG oleo. The AD also provided an optional terminating action for the repetitive inspections, by embodiment of Messier-Dowty SB.146-32-150.

As part of a recent accident investigation, the examination of a fractured NLG main fitting showed that Messier-Dowty [M-D] SB.146-32-150 had not been accomplished, although the records indicated that it had been. BAE Systems has determined that more NLG units could be similarly affected. These NLG units have been overhauled at Messier Services in Sterling, Virginia, in the United States. This condition, if not corrected, could result in NLG failure.

* * * * *

Subsequently, investigation and analysis by M-D has identified the need for a reduction of the inspection threshold and the repetitive inspection interval for the affected NLG units and has replaced M-D SB 146-32-149 with M-D SB 146-32-174. * * *

* * * * *

The unsafe condition is cracking of the NLG, which could adversely affect the airplane's safe landing.

Compliance

(f) You are responsible for having the actions required by this AD performed within the compliance times specified, unless the actions have already been done.

Inspection and Replacement

(g) Within 30 days after the effective date of this AD, inspect to determine whether an affected NLG unit, as identified in paragraph 1.A.(1) of BAE Systems (Operations) Limited Alert Inspection Service Bulletin ISB.A32-180, Revision 2, dated October 14, 2009, is installed on the airplane. A review of airplane maintenance records is acceptable in lieu of this inspection if the part number of the NLG can be conclusively determined from that review. If an affected NLG unit is installed, at the time indicated in Table 1 of this AD, as applicable, do a special detailed inspection for cracking on each affected NLG unit, in accordance with the Accomplishment Instructions of Messier-Dowty Service Bulletin 146-32-174, Revision 1, dated September 2, 2009. Repeat the inspection thereafter at intervals not to exceed 300 flight cycles.

Table 1—Compliance Time for the Special Detailed Inspection
NLG Serial No. applicability | Initial inspection compliance time
Serial numbers included in paragraph 1.D., Part 1, of BAE Systems (Operations) Limited Alert Inspection Service Bulletin ISB.A32-180, Revision 2, dated October 14, 2009 | Before further flight.
Serial numbers included in paragraph 1.D., Part 2, of BAE Systems (Operations) Limited Alert Inspection Service Bulletin ISB.A32-180, Revision 2, dated October 14, 2009 | In accordance with Table 2 of this AD.
Serial numbers included in paragraph 1.D., Part 3, of BAE Systems (Operations) Limited Alert Inspection Service Bulletin ISB.A32-180, Revision 2, dated October 14, 2009 | In accordance with Table 3 of this AD.

Table 2—Compliance Time for the Special Detailed Inspection, Excluding Airplanes Having NLG S/N M-DG-0158 Through M-DG-0168
As of the effective date of this AD for NLG— | Compliance time—
Having less than 4,700 flight cycles on the NLG | Within 5,000 flight cycles on the NLG since new.
Having greater than or equal to 4,700 flight cycles on the NLG and less than 7,700 flight cycles on the NLG | Within 300 flight cycles or 60 days after the effective date of this AD, whichever occurs later.
Having greater than or equal to 7,700 flight cycles on the NLG and less than or equal to 8,000 flight cycles on the NLG | Within 8,000 flight cycles on the NLG since new or within 30 days after the effective date of this AD, whichever occurs later.
Having greater than 8,000 flight cycles on the NLG, and having less than 2,200 flight cycles since last inspection done in accordance with Messier-Dowty Service Bulletin 146-32-149 | Within 300 flight cycles or 60 days after the effective date of this AD, whichever occurs later.
Having greater than 8,000 flight cycles on the NLG, and having greater than or equal to 2,200 flight cycles since last inspection done in accordance with Messier-Dowty Service Bulletin 146-32-149 | Within 2,500 flight cycles since last inspection as done in accordance with Messier-Dowty Service Bulletin 146-32-49, or within 30 days after the effective date of this AD, whichever occurs later.

Table 3—Compliance Time for the Special Detailed Inspection for Airplanes Having NLG S/N M-DG-0158 Through M-DG-0168
As of the effective date of this AD for NLG— | Compliance time—
Having less than 12,200 flight cycles on the NLG | Within 12,500 flight cycles on the NLG since new.
Having greater than or equal to 12,200 flight cycles on the NLG and less than 20,200 flight cycles on the NLG | Within 300 flight cycles or 60 days after the effective date of this AD, whichever occurs later.
Having greater than or equal to 20,200 flight cycles on the NLG and less than or equal to 20,500 flight cycles on the NLG | Within 20,500 flight cycles on the NLG since new or within 30 days after the effective date of this AD, whichever occurs later.
Having greater than 20,500 flight cycles on the NLG and having less than 2,200 flight cycles since last inspection done in accordance with Messier-Dowty Service Bulletin 146-32-149 | Within 300 flight cycles or 60 days after the effective date of this AD, whichever occurs later.
Having greater than 20,501 flight cycles on the NLG and greater than or equal to 2,200 flight cycles since last inspection done in accordance with Messier-Dowty Service Bulletin 146-32-149 | Within 2,500 flight cycles since last inspection done in accordance with Messier-Dowty Service Bulletin 146-32-149, or within 30 days after the effective date of this AD, whichever occurs later.

(h) If cracking is found on any NLG unit during any inspection required by paragraph (g) of this AD, before further flight, replace the cracked NLG with a serviceable unit, in accordance with Messier-Dowty Service Bulletin 146-32-174, Revision 1, dated September 2, 2009. Replacing any affected NLG unit is terminating action for the repetitive inspections required by paragraph (g) of this AD, if the replacement NLG unit has been modified in accordance with Messier-Dowty Service Bulletin 146-32-150, dated May 22, 2000, or if the replacement NLG unit has P/N 201138002 with S/N M-DG-0169 or higher.

(i) Modifying an affected NLG unit in accordance with Messier-Dowty Service Bulletin 146-32-150, dated May 22, 2000, is terminating action for the repetitive inspections required by paragraph (g) of this AD for that NLG unit.

(j) Inspecting and replacing the NLG unit is acceptable for compliance with the requirements of paragraph (g) of this AD, if done before the effective date of this AD in accordance with Messier-Dowty Service Bulletin 146-32-174, dated August 26, 2009.

FAA AD Differences

Note 1: This AD differs from the MCAI and/or service information as follows: While the European Aviation Safety Agency AD 2010-0001-E, dated January 4, 2010, states that the compliance time to determine affected NLGs is before further flight, this AD requires the determination of the affected NLG within 30 days after the effective date of this AD.

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(l) Refer to MCAI European Aviation Safety Agency Airworthiness Directive 2010-0001-E, dated January 4, 2010; Messier-Dowty Service Bulletin 146-32-174, Revision 1, dated September 2, 2009; BAE SYSTEMS (Operations) Limited Alert Inspection Service Bulletin ISB.A32-180, Revision 2, dated October 14, 2009; and Messier-Dowty Service Bulletin 146-32-150, dated May 22, 2000; for related information.

Issued in Renton, Washington, on June 29, 2010.
Ali Bahrami,
Manager, Transport Airplane Directorate, Aircraft Certification Service.

[FR Doc. 2010-16519 Filed 7-6-10; 8:45 am]

BILLING CODE 4910-13-P